DEPARTMENT OF HEALTH AND HUMAN SERVICES

Meeting of the Presidential Advisory Council on HIV/AIDS; Correction

AGENCY: Department of Health and Human Services, Office of the Secretary, Office of

the Assistant Secretary for Health.

ACTION: Notice; correction.

SUMMARY: The meeting of the Presidential Advisory Council on HIV/AIDS (PACHA) scheduled for January 28 and 29, 2016, is postponed due to inclement weather. This meeting will be rescheduled at a future date.

FOR FURTHER INFORMATION CONTACT: Caroline Talev, MPA, Committee Manager, Hubert Humphrey Building, 200 Independence Avenue SW., Washington, DC 20201. Phone: 202-205-1178. Fax: 202-401-4005. Email: Caroline.Talev@hhs.gov.

Correction

In the Federal Register of January 5, 2016, Vol. 81, No. 2, on pages 243-244 a meeting of the Presidential Advisory Council on HIV/AIDS was announced. That meeting has been cancelled due to inclement weather.

Dated: January 28, 2016.
B. Kaye Hayes,
Executive Director, Presidential Advisory Council on HIV/AIDS, U.S. Department of Health and Human Services.

[FR Doc. 2016-01936 Filed 2-2-16; 8:45 am]

BILLING CODE 4150-29-P